DEPARTMENT OF HOMELAND SECURITY

Coast Guard

33 CFR Part 117

[Docket No. USCG-2010-0247]

Drawbridge Operation Regulations; Duluth Ship Canal, Duluth, MN

AGENCY: Coast Guard, DHS.

ACTION: Notice of temporary deviation from regulations; request for comments.

SUMMARY: Commander, Ninth Coast Guard District, has issued a temporary deviation from the regulation governing the operation of the Duluth Aerial Bridge across the Duluth Ship Canal, mile 0.25, at Duluth, MN. This deviation will test a change to the drawbridge operation schedule to determine whether a permanent change to the schedule is needed. The deviation will allow scheduled openings on the hour and half-hour for vessels under 300 gross tons from May 3 to October 29, 2010, between the hours of 6 a.m. and 9 p.m., seven days per week. The bridge will open on signal for all vessels from 9 p.m. to 6 a.m., and at all times for Federal, state, and local government vessels used for public safety, vessels in distress, commercial vessels engaged in rescue or emergency salvage operations, vessels engaged in pilot duties, vessels seeking shelter from severe weather, and all commercial vessels 300 gross tons or greater.

DATES: This deviation is effective from 6 a.m. on May 3, 2010 through 9 p.m. on October 29, 2010. Comments and related material must be received by the Coast Guard by October 31, 2010.

ADDRESSES: You may submit comments identified by docket number USCG-2010-0247 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail Mr. Lee D. Soule, Bridge Management Specialist, Ninth Coast Guard District Bridge Branch; telephone: 216-902-6085, e-mail: lee.d.soule@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2010-0247), indicate the specific section of this document to which each comment applies, and provide a reason for each suggestion or recommendation. You may submit your comments and material online to (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a phone number in the body of your document so that we can contact you if we have questions regarding your submission.

To submit your comment online, go to http://www.regulations.gov, click on the “submit a comment” box, which will then become highlighted in blue. In the “Keyword” box insert “USCG-2010-0247,” click “Search,” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2010-0247” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before October 31, 2010 using one of the four methods specified under ADDRESSES. Please explain why one would be beneficial. If we determine that one would aid this rulemaking, we will hold one at a time and place announced by a later notice in the Federal Register.

Background and Purpose

The Duluth Aerial Bridge at mile 0.25 over the Duluth Ship Canal has a vertical clearance of 15 feet in the closed position and a vertical clearance of 141 feet in the opened position. The normal operating schedule as outlined in 33 CFR 117.661 requires the bridge to open on signal for all vessels, 24 hours, 7 days a week, between March 16 and December 31 each year. The scheduled drawbridge openings were requested to improve the flow of vehicular traffic over the bridge, relieve vehicular traffic congestion near the bridge and on city streets on both sides of the bridge, improve access and response times for emergency response vehicles, and enhance pedestrian safety during the peak navigation and tourist season (May 1 to October 31). The bridge, and roadway, provides the only access and evacuation route across the Ship Canal to Minnesota Point. The City of Duluth has stated that approximately 4,250 vehicles cross the bridge daily during the winter months and approximately 15,000 vehicles cross the bridge daily during the peak tourist season, with very heavy pedestrian traffic on both sides of the bridge. Vessel traffic on this waterway consists of recreational vessels, small commercial vessels, and larger commercial vessels. An estimated average of 86 vessels under 300 gross tons, and 7 vessels 300 gross tons and over, pass the bridge each day between May 1 and October 31 each year, with an average of 27 bridge openings per day during the same period.

Commander, Ninth Coast Guard District, has approved the temporary deviation to the existing drawbridge regulations for the 2010 navigation and tourist season in order to test the proposed schedule and its effectiveness for all vessel, vehicular, and pedestrian traffic at the crossing. The temporary drawbridge schedule is expected to provide for the reasonable needs of all modes of transportation, and the reasonable needs of navigation by providing two scheduled bridge openings per hour for recreational vessels and all vessels under 300 gross tons, as well as occasional unscheduled openings when larger commercial vessels are passed. Vessels may also gain access to Duluth Harbor at all times through Superior Harbor, WI.

Temporary Drawbridge Schedule

From May 3 to October 29, 2010, between the hours of 6 a.m. and 9 p.m., seven days per week, the drawbridge will open on the hour and half-hour for vessels under 300 gross tons, if needed. The bridge will open on signal for all vessels from 9 p.m. to 6 a.m., and at all times for Federal, state, and local government vessels used for public safety, vessels in distress, commercial vessels engaged in rescue or emergency salvage operations, vessels engaged in pilot duties, vessels seeking shelter from severe weather, and all commercial vessels 300 gross tons or greater.

In accordance with 33 CFR 117.35(e), the drawbridge must return to its regular operating schedule immediately at the end of the designated time period. This deviation from the operating regulations is authorized under 33 CFR 117.35.

Dated: April 13, 2010.
Peter V. Neffenger,
Rear Admiral, U.S. Coast Guard, Commander, Ninth Coast Guard District.

[FR Doc. 2010-9337 Filed 4-21-10; 8:45 am]

BILLING CODE 9110-04-P